DEPARTMENT OF HOMELAND SECURITY

Federal Emergency Management Agency

[Docket ID FEMA-2013-0002; Internal Agency Docket No. FEMA-B-1341]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Pennsylvania: Montgomery | Township of Whitpain (12-03-1849P) | The Honorable Joseph J. Palmer, Chairman, Township of Whitpain Board of Supervisors, 960 Wentz Road, Blue Bell, PA 19422 | Whitpain Township Building, 960 Wentz Road, Blue Bell, PA 19422 | http://www.rampp-team.com/lomrs.htm | August 12, 2013 | 420713
Texas:
Bell | City of Killeen (13-06-0268P) | The Honorable Daniel A. Corbin, Mayor, City of Killeen, P.O. Box 1329, Killeen, TX 76540 | City Hall, 101 North College Street, Killeen, TX 76541 | http://www.rampp-team.com/lomrs.htm | September 9, 2013 | 480031
Bell | City of Killeen (13-06-2244P) | The Honorable Daniel A. Corbin, Mayor, City of Killeen, P.O. Box 1329, Killeen, TX 76540 | City Hall, 101 North College Street, Killeen, TX 75641 | http://www.rampp-team.com/lomrs.htm | October 7, 2013 | 480031
Bexar | City of San Antonio (13-06-0967P) | The Honorable Julian Castro, Mayor, City of San Antonio, P.O. Box 839966, San Antonio, TX 78283 | Municipal Plaza, 114 West Commerce, 7th Floor, San Antonio, TX 78205 | http://www.rampp-team.com/lomrs.htm | October 7, 2013 | 480045
Bexar | Unincorporated areas of Bexar County (13-06-2069P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | http://www.rampp-team.com/lomrs.htm | October 7, 2013 | 480035
Dallas | City of Garland (13-06-0314P) | The Honorable Ronald Jones, Mayor, City of Garland, 200 North 5th Street, Garland, TX 75040 | 800 Main Street, Garland, TX 75040 | http://www.rampp-team.com/lomrs.htm | October 7, 2013 | 485471
Dallas | City of Sachse (13-06-0314P) | The Honorable Mike Felix, Mayor, City of Sachse, 3815 Sachse Road, Building B, Sachse, TX 75048 | Community Development Department, 5560 Highway 78, Sachse, TX 75048 | http://www.rampp-team.com/lomrs.htm | October 7, 2013 | 480186
Dallas | Town of Highland Park (13-06-1142P) | The Honorable Joel T. Williams, III, Mayor, Town of Highland Park, 4700 Drexel Drive, Dallas, TX 75205 | Public Works Department, 4700 Drexel Drive, Highland Park, TX 75205 | http://www.rampp-team.com/lomrs.htm | September 27, 2013 | 480178
Dallas | Town of Highland Park (12-06-3367P) | The Honorable Joel T. Williams, III Mayor, Town of Highland Park, 4700 Drexel Drive, Dallas, TX 75205 | Public Works Department, 4700 Drexel Drive, Highland Park, TX 75205 | http://www.rampp-team.com/lomrs.htm | October 11, 2013 | 480178
Johnson | City of Burleson (12-06-1425P) | The Honorable Ken Shetter, Mayor, City of Burleson, 141 West Renfro Street, Burleson, TX 76028 0 | City Hall, 141 West Renfro Street, Burleson, TX 76028 | http://www.rampp-team.com/lomrs.htm | October 3, 2013 | 485459
Tarrant | City of Keller (13-06-0279P) | The Honorable Pat McGrail, Mayor, City of Keller, 1100 Bear Creek Parkway, Keller, TX 76248 | City Hall, 1100 Bear Creek Parkway, Keller, TX 76248 | http://www.rampp-team.com/lomrs.htm | August 12, 2013 | 480602

(Catalog of Federal Domestic Assistance No. 97.022, “Flood Insurance.”)

Dated: July 26, 2013.
Roy E. Wright,
Deputy Associate Administrator for Mitigation, Department of Homeland Security, Federal Emergency Management Agency.

[FR Doc. 2013-19440 Filed 8-9-13; 8:45 am]

BILLING CODE 9110-12-P